DEPARTMENT OF ENERGY

Environmental Management Site-Specific Advisory Board, Northern New Mexico

AGENCY: Department of Energy.

ACTION: Notice of open meeting.

SUMMARY: This notice announces a combined meeting of the Environmental Monitoring and Remediation Committee, Waste Management Committee, and Waste Isolation Pilot Plant Ad Hoc Committee of the Environmental Management Site-Specific Advisory Board (EM SSAB), Northern New Mexico (known locally as the Northern New Mexico Citizens' Advisory Board [NNMCAB]). The Federal Advisory Committee Act (Pub. L. 92-463, 86 Stat. 770) requires that public notice of this meeting be announced in the Federal Register.

DATES: Wednesday, July 10, 2013 2:00 p.m.-4:00 p.m.

ADDRESSES: NNMCAB Conference Room, 94 Cities of Gold Road, Pojoaque, NM 87506.

FOR FURTHER INFORMATION CONTACT: Menice Santistevan, Northern New Mexico Citizens' Advisory Board, 94 Cities of Gold Road, Santa Fe, NM 87506. Phone (505) 995-0393; Fax (505) 989-1752 or Email: menice.santistevan@nnsa.doe.gov.

SUPPLEMENTARY INFORMATION:

Purpose of the Board: The purpose of the Board is to make recommendations to DOE-EM and site management in the areas of environmental restoration, waste management, and related activities.

Purpose of the Environmental Monitoring and Remediation Committee (EM&R): The EM&R Committee provides a citizens' perspective to NNMCAB on current and future environmental remediation activities resulting from historical Los Alamos National Laboratory operations and, in particular, issues pertaining to groundwater, surface water and work required under the New Mexico Environment Department Order on Consent. The EM&R Committee will keep abreast of DOE-EM and site programs and plans. The committee will work with the NNMCAB to provide assistance in determining priorities and the best use of limited funds and time. Formal recommendations will be proposed when needed and, after consideration and approval by the full NNMCAB, may be sent to DOE-EM for action.

Purpose of the Waste Management (WM) Committee: The WM Committee reviews policies, practices and procedures, existing and proposed, so as to provide recommendations, advice, suggestions and opinions to the NNMCAB regarding waste management operations at the Los Alamos site.

Purpose of the Waste Isolation Pilot Plant (WIPP) Ad Hoc Committee: The WIPP Ad Hoc Committee is preparing a recommendation on priorities at WIPP. The committee will be disbanded upon completion of the draft recommendation.

Tentative Agenda

1. 2:00 p.m. Approval of Agenda

2. 2:05 p.m. Approval of Minutes of June 12, 2013

3. 2:10 p.m. Old Business

• Consideration and Action on Draft Recommendation 2013-06 for Los Alamos National Laboratory Cleanup

4. 2:15 p.m. New Business

• Update on Draft Recommendation 2013-08 for Space Concerns at the Waste Isolation Pilot Plant—Ad Hoc Committee Members: Gerard Martinez, Carlos Valdez, Stephen Schmelling

• Discussion of Committee Work Plans for Fiscal Year 2014

5. 2:40 p.m. Update from Executive Committee—Carlos Valdez, Chair

6. 2:50 p.m. Update from DOE—Lee Bishop, Deputy Designated Federal Officer

7. 3:00 p.m. Presentation by Menice Santistevan, NNMCAB Executive Director

• NNMCAB Processes and Procedures

8. 3:45 p.m. Public Comment Period

9. 4:00 p.m. Adjourn

Public Participation: The NNMCAB's Committees welcome the attendance of the public at their combined committee meeting and will make every effort to accommodate persons with physical disabilities or special needs. If you require special accommodations due to a disability, please contact Menice Santistevan at least seven days in advance of the meeting at the telephone number listed above. Written statements may be filed with the Committees either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.energy.gov/.

Issued at Washington, DC, on June 17, 2013.
LaTanya R. Butler,
Deputy Committee Management Officer.

[FR Doc. 2013-14860 Filed 6-20-13; 8:45 am]

BILLING CODE 6405-01-P